DEPARTMENT OF ENERGY

Federal Energy Regulatory Commission

[Docket No. ER99-1712-003, et al.]

Somerset Power LLC, et al.; Electric Rate and Corporate Regulation Filings

May 21, 2002.

The following filings have been made with the Commission. The filings are listed in ascending order within each docket classification.

1. Somerset Power LLC

[Docket No. ER99-1712-003]

Take notice that on May 3, 2002, Somerset Power LLC (Somerset) tendered for filing with the Federal Energy Regulatory Commission ( Commission), its triennial review in compliance with the Commission's order in Rockingham Power, L.L.C, Docket No. ER99-1567-000.

Comment Date: May 31, 2002.

2. American Electric Power Service Corp.

[Docket No. ER02-371-005]

Take notice that on May 15, 2002, American Electric Power Service Corporation (AEP), on behalf of its public utility operating companies, submitted for filing with the Federal Energy Regulatory Commission (Commission), revised pages to the AEP open access transmission service tariff and to the Transmission Coordination Agreement in compliance with the Commission's April 15, 2002 order in the above-captioned proceeding.

AEP states that a copy of the transmittal letter has been served on all parties to this proceeding, all customers under the tariff and a copy of the complete filing has been served upon each of the affected state commissions.

Comment Date: June 5, 2002.

3. PJM Interconnection, L.L.C.

[Docket No. ER02-1205-001]

Take notice that on May 13, 2002, in compliance with the Federal Energy Regulatory Commission's April 30, 2002 order in Docket No. ER02-1205 (PJM Interconnection, L.L.C., 99 FERC ¶ 61,139), PJM Interconnection, L.L.C. (PJM), submitted for filing amendments to the PJM Open Access Transmission Tariff (PJM Tariff) and the Amended and Restated PJM Operating Agreement (Operating Agreement) to provide a termination date of December 1, 2004 for PJM's Emergency Load Response Program. PJM also resubmitted all of the amended PJM Tariff and Operating Agreement sheets establishing the Emergency Load Response Program redesignated as part of the PJM Tariff and Operating Agreement implementing PJM West that became effective April 1, 2002.

Copies of this filing were served upon all parties listed on the official service list in Docket No. ER02-1205, all PJM members and each state electric utility regulatory commission in the PJM region.

PJM requests an effective date of June 1, 2002 for the amendments and redesignated sheets, consistent with the effective date in PJM Interconnection L.L.C., 99 FERC ¶ 61,139 (2002).

Comment Date: June 3, 2002.

4. The Detroit Edison Company

[Docket No. ER02-1791-000]

Take notice that on May 10, 2002, The Detroit Edison Company (Detroit Edison) tendered for filing a revised Power Supply Agreement (the PSA) between Detroit Edison and the City of Detroit, Michigan, to designate additional points of delivery.

Comment Date: May 31, 2002.

5. Dayton Power and Light Company

[Docket No. ER02-1792-000]

Take notice that on May 10, 2002, Dayton Power and Light Company (DP&L) tendered for filing with the Federal Energy Regulatory Commission (Commission), service agreements between DP&L and Dominion Energy Marketing Inc. under DP&L's filed Open Access Transmission Tariff.

Copies of this filing were served upon Dominion Energy Marketing Inc. and the Public Utilities Commission of Ohio.

Comment Date: May 31, 2002.

6. Dayton Power and Light Company

[Docket No. ER02-1793-000]

Take notice that on May 10, 2002, Dayton Power and Light Company (DP&L) tendered for filing with the Federal Energy Regulatory Commission (Commission), service agreements between DP&L and Dominion Energy Marketing Inc. under DP&L's filed Open Access Transmission Tariff.

Copies of this filing were served upon Dominion Energy Marketing Inc. and the Public Utilities Commission of Ohio.

Comment Date: May 31, 2002.

7. Dayton Power and Light Company

[Docket No. ER02-1794-000]

Take notice that on May 10, 2002, Dayton Power and Light Company (DP&L) tendered for filing with the Federal Energy Regulatory Commission (Commission), service agreements establishing UBS AG, London Branch as customers under the terms of Dayton's Open Access Transmission Tariff.

Copies of this filing were served upon UBS AG, London Branch and the Public Utilities Commission of Ohio.

Comment Date: May 31, 2002.

8. Dayton Power and Light Company

[Docket No. ER02-1795-000]

Take notice that on May 10, 2002, Dayton Power and Light Company (DP&L) tendered for filing with the Federal Energy Regulatory Commission (Commission), service agreements between DP&L and UBS AG, London Branch under DP&L's filed Open Access Transmission Tariff.

Copies of this filing were served upon UBS AG, London Branch and the Public Utilities Commission of Ohio.

Comment Date: May 31, 2002.

9. Duke Electric Transmission

[Docket No. ER01-1797-000]

Take notice that on May 13, 2002, Duke Electric Transmission (Duke) tendered for filing with the Federal Energy Regulatory Commission (Commission), a Service Agreement for Non-Firm Point-to-Point Transmission Service between Duke and Northern States Power.

Duke requests that the Service Agreement become effective on May 6, 2002. A copy has been served on the North Carolina Utilities Commission.

Comment Date: June 3, 2002.

10. Huntley Power LLC

[Docket No. ER02-1798-000]

Take notice that on May 13, 2002, Huntley Power LLC filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective as soon as possible, but no later than 60 days from the date of this filing. Huntley's proposed tariff revisions merely seek to properly designate, update and conform the tariff to a format like those that the Commission has approved for Huntley's affiliates.

Comment Date: June 3, 2002.

11. Arthur Kill Power LLC

[Docket No. ER02-1799-000]

Take notice that on May 13, 2002, Arthur Kill Power LLC (Arthur Kill) filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective as soon as possible, but no later than 60 days from the date of this filing. Arthur Kill's proposed tariff revisions merely seek to properly designate, update and conform the tariff to a format like those that the Commission has approved for Arthur Kill's affiliates.

Comment Date: June 3, 2002.

12. Dunkirk Power LLC

[Docket No. ER02-1800-000]

Take notice that on May 13, 2002, Dunkirk Power LLC (Dunkirk) filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective as soon as possible, but no later than 60 days from the date of this filing. Dunkirk's proposed tariff revisions merely seek to properly designate, update and conform the tariff to a format like those that the Commission has approved for Dunkirk's affiliates.

Comment Date: June 3, 2002.

13. Astoria Gas Turbine Power LLC

[Docket No. ER02-1801-000]

Take notice that on May 13, 2002, Astoria Gas Turbine Power LLC (Astoria) tendered for filing with the Federal Energy Regulatory Commission (Commission), under section 205 of the Federal Power Act, Part 35 of the Commission's regulations and Commission Order No. 614, a request that the Commission (1) accept for filing a revised market-based rate tariff; (2) waive any obligation to submit a red-lined version of the currently effective tariff; and (3) grant any waivers necessary to make the revised tariff sheets effective as soon as possible, but no later than 60 days from the date of this filing. Astoria's proposed tariff revisions merely seek to properly designate, update and conform the tariff to a format like those that the Commission has approved for Astoria's affiliates.

Comment Date: June 3, 2002.

14. Conectiv Bethlehem, Inc.

[Docket No. ER02-1802-000]

Take notice that on May 13, 2002, Conectiv Bethlehem, Inc. (CBI) tendered for filing with the Federal Energy Regulatory Commission (Commission), a revised transaction agreement between itself and Conectiv Energy Supply, Inc. The revised transaction agreement is First Revised Service Agreement No. 2 under CBI'S market-based rate tariff, FERC Electric Tariff, Original Volume No. 1. CBI requests that the Service Agreement No. 2 become effective on May 20, 2002, the effective-date of the original Service Agreement No. 2.

Comment Date: June 3, 2002.

15. Duke Electric Transmission

[Docket No. ER02-1803-000]

Take notice that on May 13, 2002, Duke Electric Transmission (Duke), a division of Duke Energy Corporation, tendered for filing with the Federal Energy Regulatory Commission (Commission), a Service Agreement with Northern States Power, for Firm Transmission Service under Duke's Open Access Transmission Tariff. Duke requests that the proposed Service Agreement become effective on May 7, 2002. Duke states that this filings has been served on the North Carolina Utilities Commission.

Comment Date: June 3, 2002.

16. PacifiCorp

[Docket No. ER02-1804-000]

Take notice that PacifiCorp on May 13, 2002, tendered for filing with the Federal Energy Regulatory Commission (Commission), in accordance with 18 CFR Part 35 of the Commission's Rules and Regulations, a Notice of Cancellation of Service Agreement No. 20 under PacifiCorp's FERC Electric Tariff, Third Revised Volume No. 12 for the Long Term Service Agreement entered on March 23, 1998 between Citizens Power Sales and PacifiCorp. Copies of this filing were supplied to Citizens Power Sales and the Public Utility Commission of Oregon.

Comment Date: June 3, 2002.

17. Xcel Energy Services, Inc.

[Docket No. ER02-1805-000]

Take notice that on May 13, 2002, Xcel Energy Services, Inc. (XES), on behalf of Northern States Power Company and Northern States Power Company (Wisconsin) (collectively, NSP), submitted for filing a Form of Service Agreement with Southern Indiana Gas and Electric Company d/b/a Vectren Power Supply, Inc. (Southern Indiana), which is in accordance with NSP's Rate Schedule for Market-Based Power Sales (NSP Companies FERC Electric Tariff, Original Volume No. 6).

XES requests that this agreement become effective on April 15, 2002.

Comment Date: June 3, 2002.

18. Xcel Energy Services, Inc.

[Docket No. ER02-1806-000]

Take notice that on May 13, 2002, Xcel Energy Services, Inc. (XES), on behalf of Public Service Company of Colorado (Public Service), submitted for filing a Form of Service Agreement with Southern Indiana Gas and Electric Company d/b/a Vectren Power Supply, Inc. (Southern Indiana), which is in accordance with Public Service's Rate Schedule for Market-Based Power Sales (Public Service FERC Electric Tariff, First Revised Volume No. 6).

XES requests that this agreement become effective on April 15, 2002.

Comment Date: June 3, 2002.

19. Oleander Power Project, LP

[Docket No. ER02-1807-000]

Take notice that on May 13, 2002, Oleander Power Project, LP (Oleander) tendered for filing with the Federal Energy Regulatory Commission (Commission), two executed service agreements with Florida Power & Light Company designated as Service Agreement Nos. 1 and 2 under Oleander's FERC Electric Tariff, Original Volume No. 1. Oleander respectfully requests an effective date of April 13, 2002.

Comment Date: June 3, 2002.

20. Sierra Pacific Power Company, Nevada Power Company

[Docket No. ER02-1808-000]

Take notice that on May 14, 2002 Sierra Pacific Power Company and Nevada Power Company (jointly Operating Companies) tendered for filing with the Federal Energy Regulatory Commission (Commission), Service Agreements with FPL Energy Power Marketing, Inc. for Non-Firm and Short-Term Firm Point-to-Point Transmission Service under Sierra Pacific Resources Operating Companies FERC Electric Tariff, First Revised Volume No. 1, Open Access Transmission Tariff (Tariff):

The Operating Companies are filing the executed Service Agreements with the Commission in compliance with Sections 13.4 and 14.4 of the Tariff and applicable Commission regulations. The Operating Companies also submitted revised Sheet No. 195A (Attachment E) to the Tariff, which is an updated list of current subscribers. The Operating Companies request waiver of the Commission's notice requirements to permit an effective date of May 15, 2002 for Attachment E, and to allow the Service Agreement to become effective according to their terms.

Copies of this filing were served upon the Public Utilities Commission of Nevada, the Public Utilities Commission of California and all interested parties.

Comment Date: June 4, 2002.

21. Aquila, Inc.

[Docket No. ES02-40-000]

Take notice that on May 10, 2002, Aquila, Inc. (Aquila) submitted an application pursuant to section 204 of the Federal Power Act seeking authorization to issue (1) guarantees in an amount not to exceed $645 million and (2) no more than $425 million of short-term debt securities, in connection with the indirect acquisition of Cogentrix Energy, Inc.

Aquila also requests a waiver from the Commission's competitive bidding and negotiated placement requirements at 18 CFR 34.2.

Comment Date: June 11, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-13238 Filed 5-24-02; 8:45 am]

BILLING CODE 6717-01-P